DEPARTMENT OF TRANSPORTATION

Federal Highway Administration

Draft Environmental Impact Statement; Lewis & Clark and Jefferson Counties, MT.

AGENCY: Federal Highway Administration (FHWA), DOT.

ACTION: Notice of availability.

SUMMARY: In compliance with the National Environmental Policy Act of 1969, the FHWA, in cooperation with the Montana Department of Transportation (MDT), has prepared a Draft Environmental Impact Statement (DEIS) for proposed transportation improvements along the I-15 Corridor in Helena, Lewis & Clark and Jefferson Counties, Montana. The Draft EIS identifies Build Alternatives with supporting elements and the No-Action Alternative, and their associated social, economic and environmental impacts. Interested citizens are invited to review the Draft EIS and submit comments. Copies of the Draft EIS may be obtained by telephoning or writing the contact person listed below under Addresses. Public reading copies of the Draft EIS are available at the locations listed under SUPPLEMENTARY INFORMATION.

DATES: A 45-calendar-day public review period will begin on February 14, 2003 and conclude on March 31, 2003. Written comments on the alternatives and impacts to be considered must be received by MDT by March 31, 2003. A public hearing to receive oral comments on the Draft EIS will be held at the West Coast Colonial Hotel, 2301 Colonial Drive, Helena, Montana, on March 11, 2003.

ADDRESSES: Written comments on the Draft EIS should be addressed to Mr. Mark Studt, P.E., Project Manager, Montana Department of Transportation, 2701 Prospect Avenue, Helena, MT 59601. Please see SUPPLEMENTARY INFORMATION section for a listing of the available documents and formats in which they may be obtained. Copies of the Draft EIS are also available for public inspection and review. See SUPPLEMENTARY INFORMATION section for locations.

FOR FURTHER INFORMATION CONTACT: To request copies of the Draft EIS or for additional information, contact Mr. Carl James, Transportation Specialist, FHWA Montana Division, 2880 Skyway Drive, Helena, MT, 59602, Telephone: (406) 449-5302, extension 238; or Mr. Mark Studt, Project Manager, Montana Department of Transportation, 2701 Prospect Avenue, Helena, MT 59601, Telephone: (406) 444-9191.

SUPPLEMENTARY INFORMATION: A Public Hearing will be held March 11, 2003, from 4:30 p.m. to 7:30 p.m. at the West Coast Colonial Hotel (address listed above).

Copies of the Draft EIS are available in hard copy format for public inspection at:

• Montana Department of Transportation, Environmental Services, 2701 Prospect Avenue, Room 111, Helena, MT 59601, 406-444-7228.

• Jefferson County, Clerk & Recorder's Office, Jefferson County Courthouse, Boulder, MT 59632, 406-225-4020.

• Lewis & Clark County, City and County Transportation Office, City and County Building, Room 404, 316 North Park, Helena, MT 59601, 406-447-8457.

• East Helena City Hall, City Clerk's Office, 7 E. Main St., East Helena, MT 59635, 406-227-5321.

• Lewis & Clark County Library, 120 S. Last Chance Gulch, Helena, MT 59601, 406-447-1690.

• Boulder Community Library, 202 South Main, Boulder, MT 59632, 406-225-3241.

• Broadwater Community Library, 201 North Spruce, Townsend, MT 59644, 406-266-5060.

• Clancy Library, 6 North Main, Clancy, MT 59634, 406-933-5254.

• Montana City Store, 1 Jackson Creek Road, Montana City, MT 59634, 406-442-6625.

• Carter & Burgess, Inc., 707 17th Street, Suite 2300, Denver, CO 80202, 303-820-4894.

Background

This Draft EIS provides a detailed evaluation of the proposed transportation improvements along I-15 between the Montana City interchange and the Lincoln Road interchange. The study area lies within Helena, Lewis & Clark and Jefferson Counties, MT. The study area extends approximately 19 kilometers (12 miles) from the Montana City interchange in the south (RP 187) to the Lincoln Road interchange in the north (RP 200). This Draft EIS includes an examination of the purpose and need, alternatives under consideration, travel demand, affected environment, environmental consequences, and mitigation measures as a result of the improvements under consideration. Two build alternatives with five supporting elements and a No-Action Alternative are presented in the Draft EIS and are under consideration by FHWA and MDT.

The FHWA, MDT, and other local agencies invite interested individuals, organizations, and Federal, State, and local agencies to comment on the evaluated alternatives and associated social, economic, or environmental impacts related to the alternatives.

Issued on: February 4, 2003.
Dale W. Paulson,
Program Development Engineer, Montana Division, Federal Highway Administration, Helena, Montana.

[FR Doc. 03-3132 Filed 2-7-03; 8:45 am]

BILLING CODE 4910-22-M